DEPARTMENT OF HEALTH AND HUMAN SERVICES

45 CFR Parts 160 and 164

[Docket No.: HHS-OCR-0945-AA00]

Tribal Consultation on Proposed Modifications to the HIPAA Privacy Rule

AGENCY: Office of the Secretary, HHS.

ACTION: Notification of Tribal consultation.

SUMMARY: The U.S. Department of Health and Human Services will conduct a virtual Tribal consultation on the proposed rule “Modifications to the HIPAA Privacy Rule to Support, and Remove Barriers to, Coordinated Care and Individual Engagement.”

DATES: The Tribal consultation meeting will be held on February 6, 2026, at 2-3:30 p.m. eastern time.

ADDRESSES: Virtually through Zoom. To register, go to https://hhsgov.zoomgov.com/meeting/register/xrISmRO6SSWNEYAyq9zJqw#/registration. The proposed rule can be accessed by searching for RIN number 0945-AA00 at www.federalregister.gov. If you need a paper copy of the proposed rule sent to you, please contact Krupa Singh at (202) 240-3110 or (800) 537-7697 (TDD), or by email at OCRPrivacy@hhs.gov. Public comments received on the proposed rule can be viewed at www.regulations.gov under Docket ID number HHS-OCR-2021-0006.

FOR FURTHER INFORMATION CONTACT: Please contact Devin Delrow, Principal Advisor for Tribal Affairs, at (202) 868-0013 or at consultation@hhs.gov with any questions about the Tribal consultation.

SUPPLEMENTARY INFORMATION: On January 21, 2021 (86 FR 6446), the Department published a notice of proposed rulemaking (NPRM) to revise the Health Insurance Portability and Accountability Act of 1996 (HIPAA) Privacy Rule to strengthen individuals' rights to access their own protected health information, improve care coordination, and reduce administrative burdens on HIPAA covered health care providers and health plans, while continuing to protect individuals' health information privacy interests.

Pursuant to Executive Order 13175 (65 FR 67249), Consultation and Coordination with Indian Tribal Governments, and the Department of Health and Human Services' Tribal Consultation Policy, the Office for Civil Rights solicits input from Tribal officials as the Department develops modifications to the HIPAA Privacy Rule at 45 CFR part 160 and subparts A and E of 45 CFR part 164. Among other topics, the consultation will address proposals in the NPRM to:

• Strengthen individuals' rights to access their own protected health information, including electronic information.

• Improve information sharing for care coordination and case management for individuals.

• Facilitate greater family and caregiver involvement in the care of individuals experiencing emergencies or health crises.

• Enhance flexibilities for disclosures in emergency or threatening circumstances.

• Support the use of telecommunications relay services by individuals and workforce members of HIPAA covered entities and business associates who are deaf, hard of hearing, deaf-blind, or who have a speech disability.

• Expand the Privacy Rule permission to use and disclose protected health information of Armed Forces personnel for national readiness purposes so that it applies to all uniformed services personnel.

Paula M. Stannard,
Director, Office for Civil Rights, Department of Health and Human Services.

[FR Doc. 2026-00561 Filed 1-12-26; 4:15 pm]

BILLING CODE 4153-01-P